DEPARTMENT OF COMMERCE

Foreign-Trade Zones Board

[B-7-2015]

Proposed Foreign-Trade Zone—Central Pennsylvania Under Alternative Site Framework

An application has been submitted to the Foreign-Trade Zones (FTZ) Board by the Pennsylvania Foreign-Trade Zone Corporation to establish a foreign-trade zone in Central Pennsylvania, adjacent to the Pittsburgh and Harrisburg CBP ports of entry, under the alternative site framework (ASF) adopted by the FTZ Board (15 CFR 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on February 5, 2015. The applicant is authorized to make the proposal under Pennsylvania Statute 66 Pa. Sec. 3102.

The proposed zone would be the third zone for the Pittsburgh CBP port of entry and the second zone for the Harrisburg CBP port of entry. The existing zones for Pittsburgh are as follows: FTZ 33, Pittsburgh (Grantee: Regional Industrial Development Corporation of Southwestern Pennsylvania, Board Order 124, 11/9/1977); and, FTZ 254, Jefferson County (Grantee: North Central Pennsylvania Regional Planning and Development Commission, Board Order 1211, 3/13/2002). The existing zone for Harrisburg is as follows: FTZ 147, Berks County (Grantee: FTZ Corp of Southern Pennsylvania, Board Order 378, 6/28/1988).

The applicant's proposed service area under the ASF would be Bedford, Blair, Cambria, Centre, Fulton, Huntingdon and Somerset Counties, Pennsylvania. If approved, the applicant would be able to serve sites throughout the service area based on companies' needs for FTZ designation. The applicant has indicated that the proposed service area is adjacent to the Pittsburgh and Harrisburg Customs and Border Protection ports of entry.

The application indicates a need for zone services in the Central Pennsylvania area. Several firms have indicated an interest in using zone procedures. Specific sites or production approvals are not being sought at this time. Such requests would be made to the FTZ Board on a case-by-case basis.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is April 14, 2015. Rebuttal comments in response to material submitted during the foregoing period may be submitted during the subsequent 15-day period to April 29, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: February 5, 2015.
Andrew McGilvray,
Executive Secretary.

[FR Doc. 2015-02980 Filed 2-12-15; 8:45 am]

BILLING CODE 3510-DS-P